DEPARTMENT OF ENERGY

Federal Energy Regulatory Commission

[Docket No. RP04-274-001]

Kern River Gas Transmission Company; Notice of Compliance Filing

June 18, 2004.

Take notice that on June 14, 2004, Kern River Gas Transmission Company (Kern River) submitted Schedule H-3(2) to accompany its rate change filing of April 30, 2004, in the captioned proceeding. Kern River states that it submits this schedule to comply with the Commission's order in this proceeding dated May 28, 2004.

Kern River states that copies of this filing have been served on all parties to this proceeding in accordance with the Commission's regulations.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1424 Filed 6-25-04; 8:45 am]

BILLING CODE 6717-01-P